NUCLEAR REGULATORY COMMISSION

[Docket Nos. 50-361 and 50-362]

Southern California Edison Company, San Diego Gas and Electric Company, The City of Riverside, California, The City of Anaheim, California, San Onofre Nuclear Generating Station, Units 2 and 3; Environmental Assessment and Finding of No Significant Impact

The U.S. Nuclear Regulatory Commission (NRC) is considering issuance of amendments to Facility Operating License Nos. NPF-10 and NPF-15, issued to Southern California Edison Company, et al. (the licensee), for operation of the San Onofre Nuclear Generating Station (SONGS), Units 2 and 3, located in San Diego County, California. Therefore, as required by 10 CFR 51.21, the NRC is issuing this environmental assessment and finding of no significant impact.

Environmental Assessment

Identification of Proposed Action

The proposed action would amend the Facility Operating Licenses (FOLs) for SONGS, Units 2 and 3, to delete license conditions that have been fulfilled and to make other administrative and editorial changes.

The proposed action is in accordance with the licensee's application dated March 21, 2001, as supplemented by letter dated January 11, 2002.

The Need for the Proposed Action

When the FOLs, NPF-10 and NPF-15, were issued to the licensee, the NRC staff deemed certain issues essential to safety and/or essential to meeting certain regulatory interests. These issues were imposed as license conditions in the FOLs upon their issuance and during subsequent operation of the plant, with deadlines for their implementation. Since the units were licensed to operate in the 1980s, most of these license conditions have been fulfilled. For the license conditions that have been fulfilled, the licensee proposed to have them deleted from the FOLs. The licensee also proposed to make changes to the license to reflect the deletion of the completed license conditions.

The proposed amendments involve administrative changes to the FOLs only. No actual plant equipment, regulatory requirements, operating practices, or analyses are affected by these proposed amendments.

Environmental Impacts of the Proposed Action

The NRC has completed its evaluation of the proposed action and concludes that there will be no significant environmental impact if the amendments are granted. No changes will be made to the design and licensing bases, and applicable procedures at SONGS, Units 2 and 3 will remain the same. Other than the administrative changes, no other changes will be made to the FOLs, including the Technical Specifications.

The proposed actions will not significantly increase the probability or consequences of accidents, no changes are being made in the types of any effluents that may be released offsite, and there is no significant increase in occupational or public radiation exposure. Therefore, there are no significant radiological environmental impacts associated with the proposed action.

With regard to potential nonradiological impacts, the proposed action does not affect nonradiological plant effluents and has no other environmental impacts. Accordingly, the NRC concludes that there are no significant nonradiological environmental impacts associated with the proposed action.

Environmental Impacts of the Alternatives to the Proposed Action

Since the NRC has concluded that there is no measurable environmental impact associated with the proposed action, any alternatives with equal or greater environmental impact need not be evaluated. As an alternative to the proposed action, the NRC staff considered denial of the proposed action. Denial of the application would result in no change in current environmental impacts. The environmental impacts of the proposed action and the alternative action are similar.

Alternative Use of Resources

This action does did not involve the use of any resources different than those resources previously considered in the Final Environmental Statement related to the SONGS Nuclear Generating Station.

Agencies and Persons Contacted

In accordance with its stated policy, on January 25, 2002, the NRC staff consulted with the California State official, Mr. Steve Hsu, of the Radiologic Health Branch of the State Department of Health Services, regarding the environmental impact of the proposed actions. The State official had no comments.

Finding of No Significant Impact

On the basis of the environmental assessment, the NRC concludes that the proposed actions will not have a significant effect on the quality of the human environment. Accordingly, the NRC has determined not to prepare an environmental impact statement for the proposed actions.

For further details with respect to the proposed action, see the licensee's letter dated March 21, 2001, as supplemented by letter dated January 11, 2002. Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the internet at the NRC Web site, http://www.nrc.gov/reading-rm/adams/html. Persons who do not have access to ADAMS or who encounter problems in accessing the documents located in ADAMS, should contact the NRC PDR Reference staff by telephone at 1-800-397-4209 or 301-415-4737, or by e-mail to pdr@nrc.gov.

Dated at Rockville, Maryland, this 11th day of February 2002.
For the Nuclear Regulatory Commission.
John B. Hickman,
Acting Chief, Section 2, Project Directorate IV, Division of Licensing Project Management, Office of Nuclear Reactor Regulation.

[FR Doc. 02-3896 Filed 2-15-02; 8:45 am]

BILLING CODE 7590-01-P